ENVIRONMENTAL PROTECTION AGENCY

[ER-FRL-6658-1]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 02, 2004 (69 FR 17403).

Draft EISs

ERP No. D-AFS-L65469-OR Rating EC2, West Maury Fuels and Vegetation Management Project, Prescribed Fire, Commercial and Noncommercial Thinning, Grapple Piling and Hand Piling, Implementation, Lookout Mountain Range District, Ochoco National Forest, Crook County, OR.

Summary: EPA expressed environmental concerns regarding road building; the effects of extensive vegetation removal and loss of canopy closure combined with continued cattle grazing on water quality and aquatics habitat; the need for further information and analysis concerning stream sedimentation; and impacts to late old succession stands, wildlife corridors, and security habitat. EPA recommended selection of a different or modified alternative that responds to these concerns.

ERP No. D-FHW-K40255-CA Rating EC2, Bautista Canyon Road Project, California Forest Highway 224, Improvements between Florida Avenue (CA-74) and CA-371, Special-Use-Permit, NPDES Permit, U.S. Army COE Section 10 and 404 Permit, Riverside County, CA.

Summary: EPA expressed concerns and recommended additional information in the final EIS concerning the range of alternatives, impacts to cultural, historical, and biological resources and analysis of indirect and cumulative impacts.

ERP No. D-FRA-K53011-CA Rating EC2, Los Angeles Union Station Run-Through Tracks Project, Pedestrian Access Improvement, Connectivity and Increase the Capacity, City Los Angeles, Los Angeles County, CA.

Summary: EPA expressed concerns and recommended additional information in the final EIS concerning air quality impacts, water resources, and mitigation.

ERP No. D-NPS-E61077-GA Rating LO, Chattahoochee River National Recreation Area General Management Plan, Implementation, Chattahoochee River, Atlanta, GA.

Summary: EPA's review did not identify any potential environmental impacts requiring changes to the proposal.

Final EISs

ERP No. F-AFS-L65453-ID North Sheep Allotments—Sheep and Goat Allotment Management Plans, Authorization for Continued Sheep Grazing for Fisher Creek, Smiley Creek, North Fork-Boulder and Baker Creek Sheep and Goat Grazing Allotments, Sawtooth National Forest, Ketchum Ranger District, Sawtooth National Recreation Area, Blaine and Custer Counties, ID.

Summary: No formal comment letter was sent to the preparing agency.

ERP No. F-DOI-J39031-UT Utah Lake Drainage Basin Water Delivery System (ULS), Construction and Operation, Bonneville Unit of the Central Utah Project (CUP), Utah, Salt Lake, Wasatch and Juab Counties, UT.

Summary: EPA commented that the proposed project would be consistent with the Clean Water Act Section 404(b)(1) Guidelines, contingent on the mitigation conditions contained in the final EIS, the U.S. Fish and Wildlife Service's Coordination Act Report and Endangered Species Act Section 7 consultation, and the Utah Department of Environmental Quality's Clean Water Act Section 401 Water Quality Certification. EPA also provided suggestions for issues to be considered in the Record of Decision, including project purpose, alternatives analysis, definition of affected environment, water quality standards, potential impacts to aquatic resources, and water conservation.

ERP No. F-FHW-H40177-MO MO-17 Transportation Improvement Project, South of Route O to South of Howell County Line Bridge Replacement with Approaches, Funding, U.S. COE Section 404 Permit, Shannon, Texas, and Howell Counties, MO.

Summary: The final EIS provides adequate information to address 4(f), range of alternatives, and environmental justice concerns raised by EPA in the draft EIS review. Consequently, EPA has no objections to the project.

Dated: November 22, 2004.
Ken Mittelholtz,
Environmental Protection Specialist, Office of Federal Activities.

[FR Doc. 04-26155 Filed 11-24-04; 8:45 am]

BILLING CODE 6560-50-P